ENVIRONMENTAL PROTECTION AGENCY

40 CFR Part 300

[EPA-HQ-SFUND-1990-0010; FRL 9836-9]

National Oil and Hazardous Substances Pollution Contingency Plan; National Priorities List: Deletion of the Sola Optical U.S.A., Inc. Superfund Site

AGENCY: Environmental Protection Agency.

ACTION: Direct final rule.

SUMMARY: The Environmental Protection Agency (EPA) Region 9 is publishing a direct final Notice of Deletion of the Sola Optical U.S.A., Inc. Superfund Site (Site), located in Petaluma, California, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of California, through the California Regional Water Quality Control Board—San Francisco Bay Region, because EPA has determined that all appropriate response actions under CERCLA have been completed. However, this deletion does not preclude future actions under Superfund.

DATES: This direct final deletion is effective September 23, 2013, unless EPA receives adverse comments by August 23, 2013. If adverse comments are received, EPA will publish a timely withdrawal of the direct final deletion in the Federal Register informing the public that the deletion will not take effect.

ADDRESSES: Submit your comments, identified by Docket ID no. EPA-HQ-SFUND-1990-0010, by one of the following methods:

• http://www.regulations.gov. Follow on-line instructions for submitting comments.

• Email: rodriguez.dante@epa.gov.

• Fax: (415)947-3528.

• Mail: Dante Rodriguez, U.S. EPA Region 9, mail code SFD-8-2, 75 Hawthorne Street, San Francisco, CA 94105.

• Hand delivery: U.S. EPA Region 9, 75 Hawthorne Street, mail code SFD-8-2, San Francisco, CA 94105.

Such deliveries are only accepted during the Docket's normal hours of operation, and special arrangements should be made for deliveries of boxed information.

Instructions: Direct your comments to Docket ID no. EPA-HQ-SFUND-1900-0010. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

Superfund Records Center, 95 Hawthorne St., Room 403, Mail Stop SFD-7C, San Francisco, CA 94105, (415) 536-2000, Mon-Fri: 8:00 a.m. to 5:00 p.m.;

or the Site Repository at

Petaluma Public Library, 100 Fairgrounds Drive, Petaluma, CA 94952, (707) 763-9801, Mon, Thurs, Fri, Sat: 10:00 a.m. to 6:00 p.m., Tues, Wed: 10:00 a.m. to 9:00 p.m.

FOR FURTHER INFORMATION CONTACT: Dante Rodriguez, Remedial Project Manager, U.S. Environmental Protection Agency, Region 9, SFD-8-2, 75 Hawthorne Street, San Francisco, CA 94105, (415) 972-3166, email: rodriguez.dante@epa.gov.

SUPPLEMENTARY INFORMATION:

Table of Contents:

I. Introduction

II. NPL Deletion Criteria

III. Deletion Procedures

IV. Basis for Site Deletion

V. Deletion Action

I. Introduction

EPA Region 9 is publishing this direct final Notice of Deletion of the Sola Optical U.S.A., Inc. Superfund site (Site), from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective September 23, 2013 unless EPA receives adverse comments by August 23, 2013. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Sola Optical U.S.A., Inc. Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State of California prior to developing this direct final Notice of Deletion and the Notice of Intent to Delete co-published today in the “Proposed Rules” section of the Federal Register.

(2) EPA has provided the state 30 working days for review of this notice and the parallel Notice of Intent to Delete prior to their publication today, and the state, through the California Regional Water Quality Control Board—San Francisco Bay Region, has concurred on the deletion of the Site from the NPL.

(3) Concurrently with the publication of this direct final Notice of Deletion, a notice of the availability of the parallel Notice of Intent to Delete is being published in a major local newspaper, the Petaluma Argus-Courier. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Site (CAD981171523) is located at 1500 Cader Lane in the City of Petaluma in Sonoma County, California. The Site's main property contains a manufacturing building and adjoining administration office building. Six underground storage tanks (USTs) were formerly located behind the north corner of the manufacturing facility. The Site building is currently occupied by three companies, which utilize the main facility building. There is a fence located along the eastern Site boundary. Since 2005, an asphalt parking lot and four building pads with the associated below grade infrastructure (i.e., electrical and plumbing) have been constructed on the auxiliary 11 acre lot, adjacent to the main property.

Sola manufactured ophthalmic lenses at the facility from 1978 through 2001. The manufacturing process involved the injection of a catalyzed, thermosetting resin into a cavity between polished glass molds. The mold assembly was then placed in an air oven to cure the resin. The assembly was removed from the oven and subsequently put through a cleaning process before the production was repeated. The six USTs were used to store solvents such as 1,1,1-trichloroethane (1,1,1-TCA), acetone, and methanol.

In May 1982, Sola found low concentrations of volatile organic compound (VOC) contamination in the groundwater beneath the Site, near the six USTs. In 1983, the San Francisco Regional Water Quality Control Board (Regional Board) directed Sola to investigate the contamination, and 1,1-dichloroethane (1,1-DCA), 1,1-dichloroethene (1,1-DCE), methylene chloride, and 1,1,1-TCA were identified in the groundwater. In July 1985, Sola excavated and removed the six USTs. When the tanks were removed, there were no signs of leakage from the tanks; however, observations of the tank fill pipes and surrounding backfill showed staining on the pipes and in the adjacent backfill. It was concluded that the groundwater contamination might be a result of accidental spillage adjacent to, or leakage from, the fill pipes.

The tank removal included excavation of gravel backfill materials and three to five feet of native soil from the sides and bottom of the excavation pit. Confirmation sampling identified the presence of three contaminants: acetone, 1,1-DCE, and trans-1,2-dichloroethene. Based on these findings, an additional two feet of soil was excavated from the eastern wall of the former tank area. Further confirmation sampling demonstrated the presence of VOCs, including acetone. No additional excavation was performed.

In July 1986, soil gas samples were collected from 40 locations, ranging from three to five feet bgs, to determine if VOCs were migrating from shallow groundwater and to aid in selection of locations for groundwater monitoring and extraction wells. Chemicals detected in the soil gas included: chloroform, carbon tetrachloride, 1,1-DCA, 1,1-DCE, tetrachloroethene (PCE), and 1,1,1-TCA. Maximum concentrations were found approximately 70 feet downgradient from the location of the former USTs.

In 1987, the Regional Board ordered Sola to construct and operate a groundwater extraction and treatment system (GWTS). Sola conducted the activities, with the treated groundwater being discharged into Adobe Creek, just northwest of the Site, under a permit from the Regional Board. The extraction and treatment system began operating in 1988. Sola also arranged to have the City of Petaluma shut down the nearby municipal water supply well, to avoid interference with the groundwater clean-up efforts and prevent potential use of Site-impacted groundwater.

In 1989, EPA became the lead regulatory agency for remedial activities at the Site. On June 24, 1988, the Site was proposed for NPL Listing (53 Fed.Reg. 23987). On February 21, 1990, EPA added the Site to the National Priorities List of Superfund sites (55 Fed.Reg. 6153). Soon thereafter, EPA issued an administrative order directing Sola to conduct further environmental sampling and to prepare a remedial investigation report and a feasibility study of clean-up options, both of which Sola completed in 1991.

Ongoing or Potential Redevelopment

The 35-acre Sola property is zoned for industrial use. Land-use in the surrounding area is industrial, commercial, residential, and undeveloped land. The adjacent property to the west of the Site was previously owned by Stero Company, a manufacturer of dishwashers. There are residential subdivisions to the north and northwest of the Site, approximately 200 feet away. Property east of the Site is used for office space and the Harvest Christian School.

The approximately 11-acre (889,060 square feet) previously undeveloped auxiliary lot in the southwest portion of the Site was purchased by RNM Cader, L.L.C. (RNM) for development in approximately 2001. An asphalt parking lot and four building pads with the associated below grade infrastructure were constructed between 2005 and 2010. The approximately 24-acre main lot of the Sola property, including the buildings, was sold to Kland, L.L.C. in 2002. The buildings include the original manufacturing building, the adjoining administration office building, and a parking lot surrounding the buildings. Three commercial tenants currently occupy the Site building: Petaluma Poultry, Reynolds Packaging, and Scott Laboratories. Petaluma Poultry conducts sales and distribution of poultry; Reynolds Packaging conducts storage and distribution of food packaging materials; and Scott Laboratories conducts manufacturing and finishing of cork for the wine industry.

Remedial Investigation and Feasibility Study (RI/FS)

Twelve chemicals of potential concern were cited in the Record of Decision for the Site in 1991 (1991 ROD): acetone, butanone, 1,1-DCA, 1,2-dichloroethane (1,2-DCA), 1,1-DCE, Freon 113, 4-methyl-2-pentanone, PCE, toluene, 1,1,1-TCA, 1,1,2-trichloroethane (1,1,2-TCA), and trichloroethene (TCE). Contamination was found in the soil (acetone ranging up to 54 milligrams per kilogram (mg/kg) and 1,1-DCE at 0.051 mg/kg), and in the groundwater (primarily 1,1-DCA, 1,1-DCE, 1,1,1-TCA, and Freon-113). The highest contaminant concentration in groundwater was 1,1-DCE (3,300 micrograms per liter [μg/L]), detected in shallow well W-14 located downgradient of the former UST area. The wells on the downgradient edge of the Site indicated that the VOC contamination at the edge of the Sola property was at or below the clean-up standards.

The risk assessment presented in the 1991 ROD indicated an excess lifetime cancer risk based on use of on-site contaminated groundwater for drinking water of 1 × 10⁻⁴ (1 person out of 10,000 people), primarily from 1,1-DCE. The non-carcinogenic risk estimate for contaminated groundwater indicated that no adverse non-carcinogenic health effects were expected.

The ecological assessment identified Adobe Creek as the closest surface water body to the Site and as a site of a local project to reintroduce anadromous steelhead trout to the creek. However, water quality samples from groundwater monitoring wells installed between the Sola property and Adobe Creek did not detect any contaminants, indicating that discharge of contaminants to surface water had not occurred. In addition, contaminants detected in groundwater at the Site were below their corresponding federal surface water quality criteria for the protection of aquatic life.

Selected Remedy

EPA issued the ROD on September 27, 1991. The Remedial Action Objective (RAO) was to restore groundwater to its beneficial use, which is drinking water. The 1991 ROD determined that an expanded GWTS was the most appropriate method for remediating contamination at the Site. The selected site remedy consisted of the following elements:

• Groundwater monitoring to assure capture of contaminated groundwater and to demonstrate restoration of groundwater to cleanup standards throughout the aquifer

• Operation of existing extraction wells (8)

• Construction and operation of two additional shallow extraction wells

• Conversion of monitoring wells LF-13 and LF-17 to deep extraction wells

• Construction and operation of additional piping for the new and converted wells

• On-site treatment and discharge off-site or to the City of Petaluma sewage treatment system.

A ROD Amendment was signed on March 30, 2007, modifying the 1991 ROD but leaving intact its remedial action objective of restoring groundwater to its beneficial use as drinking water. The 2007 ROD Amendment addressed two issues: (1) groundwater clean-up, and (2) Institutional Controls (ICs). The ROD Amendment includes the following elements:

• Monitored Natural Attenuation (MNA) to achieve groundwater clean-up standards

• ICs to protect against inappropriate use of the contaminated groundwater until the clean-up standards are achieved

• Monitoring of both components until clean-up standards are achieved and sustained.

Response Actions

Sola expanded the system in 1992, pursuant to the 1991 ROD and a Unilateral Administrative Order issued by EPA, and continued its operations. EPA signed an “Interim Close-out Report” in 1992 to document completion of the construction and operability of the system. This report served as the Preliminary Close-out Report and as the Remedial Action Report.

The system was expected to restore the shallow groundwater to clean-up standards within 15-20 years. Initially, concentrations of the VOC contamination decreased significantly. By 1997, however, the rate of contaminant reduction had decreased. Groundwater monitoring data at four wells showed that concentrations of two contaminants, 1,1-DCE and 1,1,-DCA, appeared to have stabilized and reached an asymptote at levels above the clean-up standards. Continued monitoring reflected no further reductions in contaminant concentrations. Some areas of the contaminated aquifer had achieved the clean-up standard of 5 parts per billion for 1,1-DCA but not the entire plume. The extraction and treatment system was no longer effectively removing these lower concentrations of contaminants from the groundwater. As a result, Sola shut off the extraction and treatment system and monitored the groundwater.

The concentrations of the two remaining contaminants slowly declined. In 2001, Sola analyzed the data gathered since system shut-down in 1997 and presented its evaluation of MNA, following EPA guidance. Sola's evaluation concluded that extraction and treatment alone would not be capable of achieving the clean-up standard for the remaining areas, but MNA likely would be. EPA indicated it would proceed with amending the 1991 ROD to establish MNA as the new remedy. The extraction and treatment system was decommissioned in 2002.

Sampling results showed concentrations of the two contaminants continuing to decline. In March 2007, EPA signed the ROD Amendment that formally selected MNA and ICs. No additional facilities were constructed for the implementation of the ROD Amendment.

Sola conducted the semi-annual sampling through December 2009, followed by one groundwater monitoring event conducted in 2010, none in 2011, and one in 2012. In 2012, EPA determined that the clean-up standards had been achieved and sustained, as documented in a Remedial Action Report for the MNA remedy, signed on May 11, 2012.

Institutional Controls

The 2007 ROD Amendment added a requirement that ICs be implemented to protect against inappropriate use of the contaminated groundwater until the clean-up standards are achieved.

The IC that has been implemented at the Site involves the local well permitting department, the County of Sonoma Permit and Resource Management Department (CSPRMD) placing a note within its system, indicating that the parcel is part of a Superfund site and that well permits should not be issued before consulting with the CSPRMD and EPA. If anyone requests a permit for the Sola Site parcel, this note would appear. This control was implemented in October 2011 (Sonoma County, 2011).

Cleanup Goals

Site closure criterion was agreed upon by the Site team in January 2006, in response to recommendations presented in the five-year review report. It was agreed that groundwater monitoring at well W-27 would be continued until it was demonstrated that the cleanup goal for 1,1-DCA (i.e., the California Maximum Contaminant Limit (MCL) of 5 μg/l) and other VOCs had been maintained for four consecutive semiannual sampling events, or a minimum of two years. At that time, 1,1-DCA was the only constituent whose concentration in groundwater remained above the MCL.

The 1,1-DCA concentrations in well W-27 have been below the MCL in three of the last four monitoring events, and have remained below the MCL since June 2010 (greater than two years). In addition, the July 2012 1,1-DCA concentration is the lowest ever detected in this well, indicating the continued attenuation of 1,1-DCA. The 1,1-DCE concentration has also decreased from the June 2010 concentration to below the laboratory reporting limit of 0.5 μg/l.

The decreasing trend of 1,1-DCA concentrations in well W-27 was assessed using both the concentration-versus-time graph and a Mann-Kendall trend analysis.

Based on the two consecutive years of VOC concentrations below their respective MCLs and the decreasing concentration trend, EPA believes the groundwater cleanup standards have been achieved and the Site can be closed-out.

Operation and Maintenance

No operation and maintenance (O&M) activities are required at this site. All clean-up goals have been met, consisting of attaining drinking water MCL standards in the groundwater. No further remedial actions or O&M thereof are required. No ICs are required to remain in place.

Five-Year Review

No further five-year reviews will be conducted, as they are no longer required. No wastes were left in place above an unlimited use, unrestricted exposure level. To date, three five-year reviews have been conducted. These reviews were conducted because contaminant levels in the groundwater exceeded the ROD clean-up standards. The groundwater has since attained all clean-up standards.

Summary of Last Five-Year Review

The most recent five-year review was completed in September 2010 and contained the following Protectiveness Statement: “The remedy at the Sola Site currently protects human health and the environment because the groundwater contamination has been reduced below drinking water standards (MCLs) in all but a very limited area around one well, no exposure pathways to the remaining contamination exist, and no one is using the groundwater resource. However, in order for the remedy to be protective in the long-term, the following actions need to be taken: The well permitting restriction IC within the CSPRMD Permits Plus system must be properly implemented to ensure the protectiveness of the remedy. Determine whether the restrictive covenant IC is required to protect human health in the short-term, and implement it if so.” As a result, EPA has insured proper implementation of the well permitting restriction IC and has determined that the restrictive covenant IC was not needed because the groundwater clean-up standard had been attained.

Community Involvement

Public participation activities have been satisfied as required in CERCLA Section 113(k), 42 U.S.C. 9613(k), and CERCLA section 117, 42 U.S.C. 9617. Community involvement activities were conducted at the site, as required, during major steps of the CERCLA process, including the 1991 Record of Decision, 2007 Record of Decision Amendment, and the 2000, 2005 and 2010 Five Year Reviews. Such community involvement activities included making site documents available to the public, publishing public notices in local newspapers, and providing public comment opportunities.

EPA's community involvement activities associated with this deletion will consist of placing the deletion docket in the local site information repository and placing a public notice (of EPA's intent to delete the site from the NPL) in a local newspaper of general circulation.

Determination That the Site Meets the Criteria for Deletion in the NCP

The implemented remedy achieves the degree of cleanup specified in the ROD and ROD Amendment for all pathways of exposure. All selected remedial action objectives and clean-up goals are consistent with agency policy and guidance. No further Superfund responses are needed to protect human health and the environment at the Site.

The NCP (40 CFR 300.425(e)) states that a site may be deleted from the NPL when no further response action is appropriate. EPA, in consultation with the State of California, has determined that all required response actions have been implemented, and no further response action by the responsible parties is appropriate.

V. Deletion Action

The EPA, with concurrence of the State of California through the California Regional Water Quality Control Board—San Francisco Bay Region, has determined that all appropriate response actions under CERCLA have been completed. Therefore, EPA is deleting the Site from the NPL.

Because EPA considers this action to be noncontroversial and routine, EPA is taking it without prior publication. This action will be effective September 23, 2013 unless EPA receives adverse comments by August 23, 2013. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 15, 2013.
Jane Diamond,
Director, Water Division, U.S. EPA Region 9.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing the entry “Sola Optical U.S.A., Inc.”, “Petaluma”.

[FR Doc. 2013-17828 Filed 7-23-13; 8:45 am]

BILLING CODE P